DEPARTMENT OF LABOR

Office of the Secretary

Office of the Assistant Secretary for Administration and Management; Request for Comments on the Departmental FY 2003-2008 Strategic Plan

AGENCY: Office of the Secretary, Labor.

ACTION: Request for Comments on the Departmental FY 2003-2008 Strategic Plan.

SUMMARY: The Department of Labor (DOL) is seeking public comment on its draft Strategic Plan for fiscal years 2003-2008.

DATES: Comments should be provided no later than July 21, 2003.

ADDRESSES: Written comments can be provided by E-mail: strategic-plan@dol.gov.

Fax: (202) 693-4089.

Mail: U.S. Department of Labor, Office of the Assistant Secretary for Administration and Management, Center for Program Planning and Results, Room S-4020, 200 Constitution Avenue, NW., Washington, DC 20210.

FOR FURTHER INFORMATION CONTACT: Veronica Campbell, (202) 693-4069.

SUPPLEMENTARY INFORMATION: The Department of Labor's Draft FY 2003-2008 Strategic Plan is provided as part of the strategic planning process under the Government Performance and Results Act (GPRA) of 1993 to ensure that agency stakeholders are provided an opportunity to comment on the plan.

This document integrates the Department's many diverse missions and different program objectives into a presentation of performance objectives under four overarching strategic goals. The first three goals were developed during the initial phases of GPRA implementation in 1997 and the draft strategic plan includes revisions and improvements to the performance objectives that have evolved over the years. These three goals are: A Prepared Workforce—Increase Employment Earnings and Retention; A Secure Workforce—Increase Compliance with Worker Protection Laws; and Quality Workplaces—Foster Quality Workplaces that are Safe, Healthy, and Fair.

The fourth strategic goal—A Competitive Workforce—has been added to address some of the new challenges faced by the 21st Century workforce. The Department of Labor seeks to be an active force in supporting the Nation's competitiveness in a global economy. The issues the Department has identified include how we actually work, where we work, what skills we need, and how we balance our professional and family lives.

The Department has made significant progress in its strategic and performance planning efforts and as it builds on this progress we look forward to your comments. We ask that comments be submitted within 30 days of publication of this notice. The text of the draft strategic plan is available in a “pdf” downloadable format through the Department of Labor internet site: http://www.dol.gov/_sec/stratplan-draft/. For those who may not have internet access, a hard copy can be requested from the contact point, Veronica Campbell, 202-693-4069.

Dated: June 10, 2003.
Patrick Pizzella,
Assistant Secretary for Administration and Management.

[FR Doc. 03-15460 Filed 6-18-03; 8:45 am]

BILLING CODE 4510-23-P